DEPARTMENT OF ENERGY

Federal Energy Regulatory Commission

[Docket Nos. EL24-80-000; EL24-81-000; EL24-82-000; EL24-83-000]

Midcontinent Independent System Operator, Inc., PJM Interconnection, L.L.C., Southwest Power Pool, Inc., ISO New England, Inc.; Notice of Extension of Time

On September 30, 2024, Advanced Energy Economy, the American Clean Power Association, and the Solar Energy Industries Association (collectively, the Clean Energy Associations) filed a motion for a 14-day extension of time—from October 11, 2024 to October 25, 2024—for interested entities to submit responses in the above-referenced proceedings.¹ No answers were filed.

¹ Midcontinent Indep. Sys. Operator, Inc., 187 FERC ¶ 61,170, at P 72 & ordering para. (E) (2024).

Upon consideration, notice is hereby given that an extension of time for interested entities to file responses in the above-referenced proceedings is granted to and including October 25, 2024.

Dated: October 8, 2024.
Debbie-Anne A. Reese,
Acting Secretary.

[FR Doc. 2024-23745 Filed 10-11-24; 8:45 am]

BILLING CODE 6717-01-P